FEDERAL COMMUNICATIONS COMMISSION

Notice of Public Information Collection(s) Being Reviewed by the Federal Communications Commission for Extension Under Delegated Authority, Comments Requested

January 11, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 20, 2000. If you anticipate that you will be submitting comments, but find it difficult to do so within the period of time allowed by this notice, you should advise the contact listed below as soon as possible.

ADDRESSES: Direct all comments to Les Smith, Federal Communications Commission, Room 1 A-804, 445 Twelfth Street, S.W., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0602.

Title: Notification of Certification Withdrawal—Section 76.917.

Form Number: None.

Type of Review: Extension of a currently approved collection.

Respondents: State, Local or Tribal Government.

Number of Respondents: 25.

Estimated Time Per Response: .5 hour.

Frequency of Response: One time.

Total Annual Burden: 13 hours.

Total Annual Costs: $25.

Needs and Uses: The notifications are used by the Commission to readily determine the extent of basic service tier (“BST”) rate regulation of cable systems and to be aware of circumstances where certified local franchising authorities no longer intend to regulate BST cable rates.

OMB Control Number: 3060-0055.

Title: FCC Form 327, Application for Cable Television Relay Service Station Authorization.

Form Number: FCC Form 327.

Type of Review: Extension of a currently approved collection.

Respondents: Business and other for-profit entities; Individuals or households; State, local or tribal governments.

Number of Respondents: 973.

Estimated Time Per Response: 3.166 hours.

Frequency of Response: On occasion filing requirement.

Total Annual Burden: 3,081 hours.

Total Annual Costs: $184,870.

Needs and Uses: FCC Form 394 is used by cable television system owners or operators and MMDS operators to apply for cable television relay service station authorizations. Applicant information is used by Commission staff to determine whether applicants meet basic statutory requirements and are qualified to become or continue as Commission licensees.

OMB Control Number: 3060-0514.

Title: Section 43.21(b) Holding Company Annual Report.

Form Number: N/A.

Type of Review: Extension.

Respondents: Business or other for profit.

Number of Respondents: 20.

Estimated time Per Response: 1 hour.

Total Annual Burden: 20 hours.

Estimated Annual Reporting and Recordkeeping Cost Burden: $0.

Frequency of Response: Annually.

Needs and Uses: Each company, not itself a communications common carrier, that directly or indirectly controls any communication common carrier having annual revenues of $100 million or more must file annually with the FCC, not later than the date prescribed by SEC for its purposes two complete copies of any form 10-K annual report. Filing of SEC Form 10-K is required by Sections 1.785 and 43.21(b) of the FCC Rules and authorized by Section 219 of the Communications Act of 1934, as amended. The information is used by staff members to regulate and monitor the telephone industry and by the public to analyze the industry.

Federal Communications Commission.
Magalie Roman Salas,
Secretary.

[FR Doc. 00-1331 Filed 1-19-00; 8:45 am]

BILLING CODE 6712-01-U